Proclamation 9745 of May 7, 2018

Be Best Day, 2018

By the President of the United States of America

A Proclamation

On Be Best Day, we encourage and promote the well-being of children everywhere. In an increasingly complex and inter-connected world, nothing is more important than raising the next generation of Americans to be healthy, happy, productive, and morally responsible adults. This begins with educating our children about the many critical issues they must confront in our modern world that affect their ability to lead balanced and fulfilled lives.

Our Nation's children deserve certain knowledge that they are safe to grow, learn, and make mistakes. Adults must provide them with the tools they need to make positive contributions in their schools, with their friends, and in their communities.

From every corner of our great country, we hear inspiring stories of Americans rising up to meet the challenges of our time, many of which have an especially pronounced effect on our children. On the inaugural Be Best Day, we highlight two of these challenges: negative social media behavior and the opioid crisis.

Children who spend large amounts of time on social media are more likely to report mental health issues than those who spend time on non-screen activities. Technology, of course, plays a critical role in the economic and social development of our country. We must, however, recognize that it can also be used to harm. Be Best Day reminds us to emphasize the importance of using technology in positive ways.

Additionally, opioid dependence, addiction, and abuse are at a point of crisis in America today. We all share a moral imperative to confront this crisis, and to help those families and children affected by it. Be Best Day affords an opportunity to raise awareness about the importance of healthy children and pregnancies, including the risks neonatal abstinence syndrome poses to the long-term health of children.

Today, on Be Best Day, let us commit ourselves to the critical task of building a better future for our children. We redouble our efforts to promote well-being and acts of encouragement, kindness, and respect. We highlight the importance of responsible use of social media; and we confront the crisis of opioid misuse that is robbing so many of our children of their potential.

NOW, THEREFORE, I, DONALD J. TRUMP, President of the United States of America, by virtue of the authority vested in me by the Constitution and the laws of the United States, do hereby proclaim May 7, 2018, as Be Best Day. I encourage Americans to take time to understand the many issues children face on a daily basis—both through personal interactions and through social media. I encourage parents to better understand the harmful effects of drug misuse on our youth, and also to find opportunities to support and celebrate our children. I encourage adults and parents to talk to children, and to get involved in programs that help educate our youth on the unique challenges related to growing up in today's world.

IN WITNESS WHEREOF, I have hereunto set my hand this seventh day of May, in the year of our Lord two thousand eighteen, and of the Independence of the United States of America the two hundred and forty-second.

[FR Doc. 2018-10280

Filed 5-10-18; 11:15 am]

Billing code 3295-F8-P